DEPARTMENT OF ENERGY

Federal Energy Regulatory Commission

[Docket No. IC24-4-000]

Commission Information Collection Activities (FERC-725A(1C)); Comment Request; Extension

AGENCY: Federal Energy Regulatory Commission, Department of Energy.

ACTION: Notice of extension information collection and request for comments.

SUMMARY: In compliance with the requirements of the Paperwork Reduction Act of 1995, the Federal Energy Regulatory Commission (“Commission” or “FERC”) is soliciting public comment on the proposed extension pf the information collection, FERC-725A(1C), Mandatory Reliability Standards for Bulk-Power System: Reliability Standard TOP-001-5 (OMB Control No. 1902-0298).

DATES: Comments on the collection of information are due February 26, 2024.

ADDRESSES: Please submit your comments to the Commission (identified by Docket No. IC) by one of the following methods:

• eFiling at Commission's Website: http://www.ferc.gov/docs-filing/efiling.asp;

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All submissions must be formatted and filed in accordance with submission guidelines at: http://www.ferc.gov. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Jean Sonneman may be reached by email at DataClearance@FERC.gov, telephone at (202) 502-6362.

SUPPLEMENTARY INFORMATION:

Title: FERC-725A(1C) (Mandatory Reliability Standards for Bulk-Power System: Reliability Standard TOP-001-4).

OMB Control No.: 1902-0298.

Type of Request: Extension to the information collection, with no changes to the reporting and recordkeeping requirements.

Abstract: In a petition dated March 6, 2017, the North American Electric Reliability Corporation (“NERC”) requested Commission approval for proposed Reliability Standard TOP-001-4 (Transmission Operations). NERC stated that the proposed Reliability Standard addresses the Commission directives in Order No. 817 related to: (i) transmission operator monitoring of non-bulk electric system (“BES”) facilities; (ii) redundancy and diverse routing of transmission operator, balancing authority, and reliability coordinator data exchange capabilities; and (iii) testing of alternative or less frequently used data exchange capabilities”. In an order on April 17, 2017,¹ the implementation of Reliability Standard TOP-001-4 and the retirement of Reliability Standard TOP-001-3 was approved. Reliability Standard TOP-001-5 is the currently effective version of the standard as of April 1, 2021, at the same time Reliability Standard TOP-001-4 was retired. The Commission now seeks to extend the information collection activities associated with Reliability Standard TOP-001-5.

¹ The Delegated Letter Order is available in the Commission's eLibrary at https://elibrary.ferc.gov/idmws/common/OpenNat.asp?fileID=14560616.

It is also noted that we are updating appliable entities to accurately reflect for this renewal it applies to transmission operators (TOP) and balancing authorities (BA), in the previous renewal the incorrect number of TOPs was used and we are changing it from 321 to 165.

Type of Respondents: Transmission Operators (TOP) and Balancing Authorities (BA).

Estimate of Annual Burden: ² The Commission estimates the annual public reporting burden and cost as follows.

² Burden is defined as the total time, effort, or financial resources expended by persons to generate, maintain, retain, or disclose or provide information to or for a Federal agency. For further explanation of what is included in the information collection burden, refer to 5 Code of Federal Regulations 1320.3.

³ Our estimates are based on the NERC Compliance Registry of 11/14/2023, which indicates there are 165 unique entities registered as TOPs and 98 unique entities registered as BAs within the United States. One entity may be registered as having several roles.

⁴ The hourly cost figures, for salary plus benefits, for the reliability standards are based on Bureau of Labor Statistics (BLS) information (at http://www.bls.gov/oes/current/naics2_22.htm and https://www.bls.gov/ecec/data.htm), as of September 2023. The data for reporting requirements are for an electrical engineer (code 17-2071): $70.55/hour ($54.83 mean hourly wage plus $15.72 hourly benefits. The data for recordkeeping requirements are for an information and record clerk (code 43-4199): $39.56/hour ($29.67 mean hourly wage plus $9.89 hourly benefits).

Information collection requirements | Number of respondents & type of entity ³ | Annual number of responses per respondent | Total number of responses | Average burden hours & cost per response ($) | Total annual burden hours & total annual cost ($)
| (1) | (2) | (1) * (2) = (3) | (4) ⁴ | (3) * (4) = (5)
Reporting (R10, R20, & R21), ongoing | 165 (TOP) | 1 | 165 | 3 hrs.; $211.65 | 495 hrs.; $34,922.25.
Recordkeeping, ongoing | 165 (TOP) | 1 | 165 | 2 hrs.; $79.12 | 330 hrs.; $13,054.80.
TOP Sub-Totals |  |  |  | 5 hrs.; $290.77 | 825 hrs.; $47,977.05.
Reporting (R23 & R24), ongoing | 98 (BA) | 1 | 98 | 2 hrs.; $141.10 | 196 hrs.; $13,827.80.
Recordkeeping, ongoing | 98 (BA) | 1 | 98 | 4 hrs.; $158.24 | 392 hrs.; $15,507.52.
BA Sub-Totals |  |  |  | 6hrs.; $299.34 | 588 hrs.; $29,335.32.
FERC-725A(1C) ongoing total |  |  |  |  | 1,413 hrs.; $773,312.37

Comments: Comments are invited on: (1) whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: December 21, 2023.
Debbie-Anne A. Reese,
Deputy Secretary.

[FR Doc. 2023-28701 Filed 12-27-23; 8:45 am]

BILLING CODE 6717-01-P